DEPARTMENT OF AGRICULTURE

Foreign Agricultural Service

Privacy Act of 1974: New System of Records

AGENCY: Foreign Agricultural Service.

ACTION: Notice of a new system of records.

SUMMARY: The Foreign Agricultural Service (FAS) proposes to add a system of records notice to its inventory of records systems subject to the Privacy Act of 1974 (5 U.S.C. 552a), as amended. This action is necessary to meet the requirements of the Privacy Act to publish in the Federal Register notice of the existence and character of record systems maintained by the agency (5 U.S.C. 552a(e)(4)).

DATES: This action will be effective without further notice August 23, 2007 unless comments are received that would result in a contrary determination.

ADDRESSES: Send written comments to Privacy Act Officer, U.S. Department of Agriculture, FAS/OAO, Mail Stop 1031, 1400 Independence Avenue, SW., Washington, DC 20250-1031.

FOR FURTHER INFORMATION CONTACT: William Hawkins, Director, Program Management Division, USDA/FAS/OAO, Mail Stop 1031, 1400 Independence Avenue, SW., Washington, DC 20250-1031.

SUPPLEMENTARY INFORMATION: The International Passport and Travel Tracking System (IPATTS) was primarily designed to track official and diplomatic passports, and to maintain support documentation for all agencies within the U.S. Department of Agriculture (USDA). It is also used to track visas obtained for USDA travelers. The social security number is used to ensure the traveler's identity and verify employment of persons applying for issuance of passports for USDA travel. The information maintained in the records is used to establish the U.S. citizenship and identity of persons for a variety of legal purposes including, but not limited to the adjudication of passport applications. The principal user of this information is USDA's Internation Travel Section (ITS).

USDA/FAS-7

SYSTEM NAME:

International Passport and Travel Tracking System.

SYSTEM LOCATION:

Electronic records are maintained by the Foreign Agricultural Service, U.S. Department of Agriculture, 1400 Independence Avenue, SW., Washington, DC 20250.

CATEGORIES OF INDIVIDUALS COVERED BY THE SYSTEM:

USDA employees and their dependents who travel abroad on official business; employees and their dependents who have been issued or have applied for the issuance, amendment, extension or renewal of U.S. passports.

CATEGORIES OR RECORDS IN THE SYSTEM:

Federal employees and their dependents records may include name, address, social security number, date of birth, photo ID, and passport number.

AUTHORITY FOR MAINTENANCE OF THE SYSTEM:

5 U.S.C. 301; 8 U.S.C. 1185, 1401 thru 1503; 18 U.S.C. 911, 1001, 1541 thru 1546; 22 U.S.C. 211a et seq.; E.O. 9397; E.O. 11295.

PURPOSE:

The information maintained in the IPATTS records is used to provide international travel services for official USDA travelers; administer foreign visa requests and official passports of USDA agencies; and manage international travel support to the FFAS mission area.

STORAGE:

Records are stored in paper and electronic format.

RETRIEVABILITY:

Records are retrieved by individual name or social security numbers.

SAFEGUARDS:

All employees of USDA undergo a thorough background security investigation, while contractors are subject to a background investigation in accordance to their contract. All records containing personal information are maintained in secured file cabinets or in restricted accessed areas which is limited to authorized personnel. Access to computerized data is password-protected and under the responsibility of the system manager and his staff. The database administrator has the ability to review audits trails, thereby permitting regular ad hoc monitoring of computer usage.

RETENTION AND DISPOSAL:

Retention of the records varies depending upon the specific record. They are retired or destroyed in accordance with published record schedules of the Department.

SYSTEM MANAGER(S) AND ADDRESS:

Director, Program Management Division, USDA/FAS/OAO, Mail Stop 1031, 1400 Independence Avenue, SW., Washington, DC 20250-1031.

NOTIFICATION PROCEDURE:

Individuals seeking to determine whether this system of records contains information about themselves may submit a written request to the Privacy Act Officer, USDA/FAS/OAO, Mail Stop 1031, 1400 Independence Avenue, SW., Washington, DC 20250-1031. Individuals must specify their request regarding IPATTS inquiries.

RECORDS ACCESS PROCEDURE:

Individuals who request access to or amend records pertaining themselves should contact the Director, International Travel, USDA/FAS/OFSO/IS, Mail Stop 1061, 1400 Independence Avenue, SW., Washington, DC 20250-1061. Individuals must provide name and social security number for their record to be identified. Individuals requesting access must also follow the USDA's Privacy Act regulations regarding verification of identity and amendment of records (7 CFR part 1, subpart G).

RECORD SOURCE CATEGORIES:

These records contain information obtained primarily from the individual, FAS components, and other Federal agencies.

SYSTEM EXEMPTED FROM CERTAIN PROVISIONS OF THE ACT:

None.

Dated: July 6, 20007.
Michael W. Yost,
Administrator, Foreign Agricultural Service.

[FR Doc. 07-3594 Filed 7-23-07; 8:45 am]

BILLING CODE 3410-10-M